DEPARTMENT OF EDUCATION

Reopening; Applications for New Awards; Training and Information for Parents of Children With Disabilities—Parent Training and Information Centers

AGENCY: Office of Special Education and Rehabilitative Services, Department of Education.

ACTION: Notice.

SUMMARY: On April 21, 2020, we published in the Federal Register a notice inviting applications (NIA) for the fiscal year (FY) 2020 Parent Training and Information Centers program, Catalog of Federal Domestic Assistance (CFDA) 84.328M. The NIA established a deadline date of June 22, 2020, for the transmittal of applications. This notice reopens the competition for five days.

DATES: Deadline for Transmittal of Applications: July 20, 2020.

Deadline for Intergovernmental Review: September 14, 2020.

FOR FURTHER INFORMATION CONTACT: Carmen Sanchez, U.S. Department of Education, 400 Maryland Avenue SW, Room 5162, Potomac Center Plaza, Washington, DC 20202-5076. Telephone: (202) 245-6595. Email: Carmen.Sanchez@ed.gov.

If you use a telecommunications device for the deaf (TDD) or a text telephone (TTY), call the Federal Relay Service (FRS), toll free, at 1-800-877-8339.

SUPPLEMENTARY INFORMATION: On April 21, 2020, we published a notice inviting applications (NIA) for the fiscal year (FY) 2020 Parent Training and Information Centers program, Catalog of Federal Domestic Assistance (CFDA) 84.328M (85 FR 22153).

We did not receive timely applications that met all of the applicable requirements in the NIA from eligible applicants to serve all States listed in the notice prior to the closing date. Therefore, we are reopening the competition to allow applicants to submit or resubmit applications that meet the requirements in the NIA, in order to ensure that parents in all States can be served by a Parent Training and Information Center.

Note: This notice does not reopen the Parent Information and Training program competition, CFDA number 84.235F, published in the same NIA.

Applicants that have already submitted applications under the FY 2020 Parent Training and Information Centers competition, CFDA 84.328M, are encouraged to review their applications and confirm that they have met all eligibility and other requirements contained in the NIA and the application package, which is available at www.grants.gov/web/grants/view-opportunity.html?oppId=326384.

Applicants may review two recorded webinars that discuss the application requirements at https://osepideasthatwork.org/resources-grantees/informational-webinars-osep-funding-opportunities.

Applicants that already submitted timely applications that meet all of the eligibility and other requirements do not have to resubmit their applications. If a new application is not submitted, the Department will use the application that was submitted before the June 22, 2020, 11:59 p.m. Eastern Time deadline.

Note: Applications that did not meet the submission deadline must be submitted to be considered for review.

Note to Applicants: The NIA provides other information that applies to this competition. Specifically, the NIA identifies the requirements for applications submitted in response to the priority titled “Parent Training and Information Centers,” CFDA 84.328M, including the eligible entities, the States from which we are accepting applications, and the instructions for submitting applications.

Accessible Format: Individuals with disabilities can obtain this document, the NIA, and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration, delegated the authority to perform the functions and duties of the Assistant Secretary for the Office of Special Education and Rehabilitative Services.

[FR Doc. 2020-15202 Filed 7-9-20; 4:15 pm]

BILLING CODE 4000-01-P